DEPARTMENT OF TRANSPORTATION

Federal Aviation Administration

14 CFR Part 39

[Docket No. FAA-2021-0459; Project Identifier MCAI-2021-00129-T; Amendment 39-21697; AD 2021-17-14]

RIN 2120-AA64

Airworthiness Directives; Gulfstream Aerospace LP Airplanes; Correction

AGENCY: Federal Aviation Administration (FAA), DOT.

ACTION: Final rule; correction.

SUMMARY: The FAA is correcting an airworthiness directive (AD) that was published in the Federal Register. That AD applies to certain Gulfstream Aerospace LP Model Gulfstream G280 airplanes. As published, the document number of the Civil Aviation Authority of Israel (CAAI) AD specified in the preamble and regulatory text is incorrect. This document corrects that error. In all other respects, the original document remains the same.

DATES: This correction is effective October 14, 2021. The effective date of AD 2021-17-14 remains October 14, 2021.

The Director of the Federal Register approved the incorporation by reference of a certain publication listed in this AD as of October 14, 2021 (86 FR 50451, September 9, 2021).

ADDRESSES: For service information identified in this final rule, contact the CAAI, P.O. Box 1101, Golan Street, Airport City, 70100, Israel; telephone 972-3-9774665; fax 972-3-9774592; email aip@mot.gov.il. You may find this IBR material on the CAAI website at https://www.caa.gov.il. You may view this referenced service information at the FAA, Airworthiness Products Section, Operational Safety Branch, 2200 South 216th St., Des Moines, WA. For information on the availability of this material at the FAA, call 206-231-3195. It is also available on the internet at https://www.regulations.gov by searching for and locating Docket No. FAA-2021-0459.

Examining the AD Docket

You may examine the AD docket on the internet at https://www.regulations.gov by searching for and locating Docket No. FAA-2021-0459; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Tom Rodriguez, Aerospace Engineer, Large Aircraft Section, International Validation Branch, FAA, 2200 South 216th St., Des Moines, WA 98198; telephone and fax 206-231-3226; email Tom.Rodriguez@faa.gov.

SUPPLEMENTARY INFORMATION: AD 2021-17-14, Amendment 39-21697 (86 FR 50451, September 9, 2021) (AD 2021-17-14), requires non-destructive testing on the forward (front) spar vertical stiffener and rib 0 for any cracking, installation of a doubler to the forward (front) spar and rib 0 attachment, and repair if necessary. That AD applies to certain Gulfstream Aerospace LP Model Gulfstream G280 airplanes.

Need for the Correction

As published, the document number of the CAAI AD specified in the preamble and regulatory text of AD 2021-17-14 is incorrect. The document number of the CAAI AD is incorrectly cited as “CAAI AD I-57-2020-06-01.” The correct document number should read as, “CAAI AD ISR-I-57-2020-06-01.”

Related Service Information Under 1 CFR Part 51

CAAI AD ISR-I-57-2020-06-01, dated January 27, 2021, specifies procedures for non-destructive testing (high frequency, mid frequency, and bolt hole eddy current inspections; and a liquid (dye) penetrant inspection) for cracking on the forward (front) spar vertical stiffener and rib 0, installation of a doubler to the forward (front) spar and rib 0 attachment, and repair if necessary. This service information is reasonably available because the interested parties have access to it through their normal course of business or by the means identified in the ADDRESSES section.

Correction of Publication

This document corrects an error and correctly adds the AD as an amendment to 14 CFR 39.13. Although no other part of the preamble or regulatory information has been corrected, the FAA is publishing the entire rule in the Federal Register.

The effective date of this AD remains October 14, 2021.

Since this action only corrects the document number of the CAAI AD, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA corrects § 39.13 by correcting the airworthiness directive published at (86 FR 50451) (October 14, 2021) to read:

2021-17-14 Gulfstream Aerospace LP: Amendment 39-21697; Docket No. FAA-2021-0459; Project Identifier MCAI-2021-00129-T.

(a) Effective Date

This airworthiness directive (AD) is effective October 14, 2021.

(b) Affected ADs

None.

(c) Applicability

This AD applies to Gulfstream Aerospace LP Model Gulfstream G280 airplanes, certificated in any category, as identified in The Civil Aviation Authority of Israel (CAAI) AD ISR-I-57-2020-06-01, dated January 27, 2021 (CAAI AD ISR-I-57-2020-06-01).

(d) Subject

Air Transport Association (ATA) of America Code 57, Wings.

(e) Reason

This AD was prompted by a report that during full-scale fatigue testing, a crack was found in the area of the attachment of the wing rib 0 to the front spar. The FAA is issuing this AD to address any cracking at the area of the wing rib 0 to the front spar, which could affect the structural integrity of the wing.

(f) Compliance

Comply with this AD within the compliance times specified, unless already done.

(g) Requirements

Except as specified in paragraph (h) of this AD: Comply with all required actions and compliance times specified in, and in accordance with, CAAI AD ISR-I-57-2020-06-01.

(h) Exception to CAAI AD ISR-I-57-2020-06-01

Where CAAI AD ISR-I-57-2020-06-01 requires compliance “not later than 5,000 flight cycles,” this AD requires compliance before the accumulation of 5,000 total flight cycles since the date of issuance of the original Israeli airworthiness certificate or the date of issuance of the original Israeli export certificate of airworthiness.

(i) No Reporting Requirement

Although the service information referenced in CAAI AD ISR-I-57-2020-06-01 specifies to submit certain information to the manufacturer, this AD does not include that requirement.

(j) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or CAAI; or CAAI's authorized Designee. If approved by the CAAI Designee, the approval must include the Designee's authorized signature.

(k) Related Information

For more information about this AD, contact Tom Rodriguez, Aerospace Engineer, Large Aircraft Section, International Validation Branch, FAA, 2200 South 216th St., Des Moines, WA 98198; telephone and fax 206-231-3226; email Tom.Rodriguez@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 14, 2021 (86 FR 50451, September 9, 2021).

(i) Civil Aviation Authority of Israel (CAAI) AD ISR-I-57-2020-06-01, dated January 27, 2021.

(ii) [Reserved]

(4) For CAAI AD ISR-I-57-2020-06-01, contact CAAI, P.O. Box 1101, Golan Street, Airport City, 70100, Israel; telephone 972-3-9774665; fax 972-3-9774592; email aip@mot.gov.il. You may find this CAAI AD on the CAAI website at https://www.caa.gov.il.

(5) You may view this service information at the FAA, Airworthiness Products Section, Operational Safety Branch, 2200 South 216th St., Des Moines, WA. For information on the availability of this material at the FAA, call 206-231-3195.

(6) You may view this service information that is incorporated by reference at the National Archives and Records Administration (NARA). For information on the availability of this material at NARA, email fr.inspection@nara.gov, or go to: https://www.archives.gov/federal-register/cfr/ibr-locations.html.

Issued on September 16, 2021.
Lance T. Gant,
Director, Compliance & Airworthiness Division, Aircraft Certification Service.

[FR Doc. 2021-20404 Filed 9-21-21; 8:45 am]

BILLING CODE 4910-13-P